DEPARTMENT OF VETERANS AFFAIRS

[OMB Control No. 2900-New (Appraiser-Realtor Surveys)]

Agency Information Collection Activities (VA Loan Guaranty Service Appraiser and Realtor Surveys) Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before April 13, 2009.

ADDRESSES: Submit written comments on the collection of information through http://www.Regulations.gov; or to VA's OMB Desk Officer, OMB Human Resources and Housing Branch, New Executive Office Building, Room 10235, Washington, DC 20503 (202) 395-7316. Please refer to “OMB Control No. 2900-New (Appraiser-Realtor Surveys)” in any correspondence.

FOR FURTHER INFORMATION CONTACT: For Further Information or a Copy of the Submission Contact: Denise McLamb, Enterprise Records Service (005R1B), Department of Veterans Affairs, 810 Vermont Avenue, NW., Washington, DC 20420, (202) 461-7485, FAX (202) 273-0443 or e-mail: denise.mclamb@mail.va.gov. Please refer to “OMB Control No. 2900-New (Appraiser-Realtor Surveys).”

SUPPLEMENTARY INFORMATION: Title: VA Loan Guaranty Service Appraiser and Realtor Surveys.

OMB Control Number: 2900-New (Appraiser-Realtor Surveys).

Type of Review: New collection.

Abstract: The mission of LGY is to help veterans and active duty personnel purchase and retain homes in recognition of their service to our nation. The program offers many advantages to veterans, including no down payment, and no mortgage insurance premiums. Since the program's inception in 1944, it has helped millions of veterans to become homeowners.

As part of the VA's continuing commitment to improve the services provided to veterans, LGY will conduct FY09 VA Loan Guaranty Service Appraiser and Realtor Surveys. The survey will target real estate professionals geographically located in “veteran rich” areas. The appraisers surveyed will be those currently serving on the VA Fee Panel.

An agency may not conduct or sponsor, and a person is not required to respond to a collection of information unless it displays a currently valid OMB control number. The Federal Register Notice with a 60-day comment period soliciting comments on this collection of information was published on December 23, 2008, at pages 78873-78874.

Affected Public: Business or other for profits.

Estimated Annual Burden: 2,750 hours.

Estimated Average Burden per Respondent: 15 minutes.

Frequency of Response: One-time.

Estimated Number of Respondents: 11,000.

Dated: March 6, 2009.
By direction of the Secretary.
Denise McLamb,
Program Analyst, Enterprise Records Service.

[FR Doc. E9-5393 Filed 3-11-09; 8:45 am]

BILLING CODE 8320-01-P